DEPARTMENT OF TRANSPORTATION

Federal Aviation Administration

14 CFR Part 71

[Docket No. FAA-2025-0932; Airspace Docket No. 25-ASO-9]

RIN 2120-AA66

Amendment of Class D and Class E5 Airspace Over Kinston, NC

AGENCY: Federal Aviation Administration (FAA), DOT.

ACTION: Final rule.

SUMMARY: This rule amends the Class D airspace at Kinston Regional Jetport at Stallings Field Airport, Kinston, NC, by updating the airport reference point (ARP) coordinates. Additionally, this rule amends Class E airspace at Kinston Regional Jetport at Stallings Field Airport, Kinston, NC, due to the currently designated airspace no longer meeting the requirements of its designation. Controlled airspace is necessary for the safety and management of IFR operations in the area for existing instrument approaches.

DATES: Effective 0901 UTC, November 27, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours a day, 365 days a year. An electronic copy of this document may also be downloaded from the Office of the Federal Register's website at www.federalregister.gov.

FAA Order JO 7400.11J, Airspace Designations, and Reporting Points, as well as subsequent amendments, can be viewed online at www.faa.gov/air_traffic/publications/. For further information, you may also contact the Rules and Regulations Group, Policy Directorate, Federal Aviation Administration, 600 Independence Avenue SW, Washington, DC 20597; Telephone: (202) 267-8783.

FOR FURTHER INFORMATION CONTACT: Christopher Stocking, Operations Support Group, Eastern Service Center, Federal Aviation Administration, 1701 Columbia Avenue, College Park, GA 30337; Telephone: (404) 305-5887.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it updates the ARP on which the Class D is based, and amends Class E5 airspace in Kinston, NC.

History

The FAA published an NPRM for Docket No. FAA 2025-0400 in the Federal Register (90 FR 10424; June 10, 2025), proposing to amend Class D and E5 airspace at Kinston Regional Jetport at Stallings Field Airport, Kinston, NC. Interested parties were invited to participate in this rulemaking effort by submitting written comments on the proposal to the FAA. No comments were received.

Changes From NPRM

Subsequent to publication of the NPRM, an editorial change was made to this action to include Lenoir Memorial Hospital Heliport, NC, Class E5 airspace within the Kinston, NC, Class E5 airspace description. This airspace was inadvertently left out of the airspace description in the NPRM despite there being no intention by the FAA to remove this portion of Class E5 airspace in Kinston, NC. As this constitutes a ministerial change that corrects an error in the NPRM and does not alter legal obligations associated with the airspace, the FAA has determined that good cause exists for not re-circulating the NPRM for public notice and comment.

Incorporation by Reference

Class D and E airspace designations are published in paragraphs 5000, 6002, 6004, and 6005 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This rule amends 14 CFR part 71 to modify Class D and E5 airspace for Kinston Regional Jetport, Kinston, NC.

This rule amends the Class D airspace by updating the ARP coordinates (lat. 35°19′53″ N, long. 77°36′32″ W). The Class D airspace boundaries will otherwise remain the same, extending upward from the surface to and including 2,600 feet MSL within a 4.1-mile radius of Kinston Regional Jetport at Stallings Field Airport. This Class D airspace area is effective during the specific days and times established in advance by a Notice to Airmen. The effective days and times will thereafter be continuously published in the Chart Supplement.

Additionally, this rule amends the Class E5 airspace by removing that airspace that is within 2.5 miles on each side of the Kinston VORTAC 047° radial, extending from the 6.7-mile radius to 7 miles northeast of the VORTAC as this airspace no longer meets the requirements of its designation.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1F,¹ “Environmental Impacts: Policies and Procedures,” paragraph 5-6.5a. This airspace action is not expected to cause any potentially significant environmental impacts, and no extraordinary circumstances exist that warrant the preparation of an environmental assessment.

¹ The FAA has updated its National Environmental Policy Act implementing procedures in FAA Order 1050.1G, which has an effective date of June 30, 2025. That Order states that it “does not apply to or alter any decisions made and final environmental documents issued prior to the effective date”. The CATEX prepared in connection with this action was prepared prior to the effective date of the new Order and therefore was prepared in accordance with the prior version of the Order.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

ASO NC D Kinston, NC [Amended]

Kinston Regional Jetport at Stallings Field, NC

(Lat. 35°19′53″ N, long. 77°36′32″ W)

That airspace extending upward from the surface to and including 2,600 feet MSL within a 4.1-mile radius of Kinston Regional Jetport at Stallings Field. This Class D airspace area is effective during the specific days and times established in advance by a Notice to Airmen. The effective days and times will thereafter be continuously published in the Chart Supplement.

* * * * *

Paragraph 6005 Class E Airspace.

* * * * *

ASO NC E5 Kinston, NC [Amended]

Kinston Regional Jetport at Stallings Field, NC

(Lat. 35°19′53″ N, long. 77°36′32″ W)

Lenoir Memorial Hospital Heliport, NC

(Lat. 35°17′24″ N, long. 77°35′04″ W)

That airspace extending upward from 700 feet above the surface within a 6.7-mile radius of Kinston Regional Jetport at Stallings Field and within a 6-mile radius of Lenoir Memorial Hospital Heliport.

* * * * *

Issued in College Park, Georgia, on July 30, 2025.
Patrick Young,
Manager, Airspace & Procedures Team North, Eastern Service Center, Air Traffic Organization.

[FR Doc. 2025-14578 Filed 7-31-25; 8:45 am]

BILLING CODE 4910-13-P